DEPARTMENT OF COMMERCE

National Oceanic and Atmospheric Administration

Availability of Commercial Fishing Seat for the Flower Garden Banks National Marine Sanctuary Advisory Council

AGENCY: National Marine Sanctuary Program (NMSP), National Ocean Service (NOS), National Oceanic and Atmospheric Administration, Department of Commerce (DOC).

ACTION: Notice and request for applications.

SUMMARY: The Flower Garden Banks National Marine Sanctuary (FGBNMS or Sanctuary) is seeking applicants for the Commercial Fishing seat on its Sanctuary Advisory Council (Council). The Applicant will be selected based upon his or her particular expertise and experience in relation to the seat for which he or she is applying; community and professional affiliations; philosophy regarding the protection and management of marine resources; and possibly the length of residence in the area affected by the Sanctuary. The Applicant chosen as a member should expect to serve a 2-year term, pursuant to the Council's Charter.

DATES: Applications are due by October 11, 2005.

ADDRESSES: Application kits may be obtained from Jennifer Morgan at Flower Garden Banks National Marine Sanctuary, 1200 Briarcrest, Suite 4000, Bryan, Texas 77802. Completed applications should be sent to the same address.

FOR FURTHER INFORMATION CONTACT: Jennifer Morgan, 1200 Briarcrest, Suite 4000, Bryan, Texas 77802, 979-846-5942, Jennifer.Morgan@noaa.gov.

SUPPLEMENTARY INFORMATION: Located in the northwestern Gulf of Mexico, the Flower Garden Banks National Marine Sanctuary includes three separate areas, known as East Flower Garden, West Flower Garden, and Stetson Banks. The Sanctuary was designated on January 17, 1992. Stetson Bank was added to the Sanctuary in 1996. The Sanctuary Advisory Council will consist of no more than 11 members; 8 non-governmental voting members and 3 governmental non-voting members. The Council may serve as a forum for consultation and deliberation among its members and as a source of advice to the Sanctuary manager regarding the management of the Flower Garden Banks National Marine Sanctuary.

Authority: 16 U.S.C. Sections 1431, et seq.

(Federal Domestic Assistance Catalog Number 11.429 Marine Sanctuary Program)

Dated: September 9, 2005.
Daniel J. Basta,
Director, National Marine Sanctuary Program, National Ocean Services, National Oceanic and Atmospheric Administration.

[FR Doc. 05-18506 Filed 9-16-05; 8:45 am]

BILLING CODE 3510-NK-M